DEPARTMENT OF AGRICULTURE

Animal and Plant Health Inspection Service

7 CFR Part 319

[Docket No. 00-059-1]

Movement and Importation of Fruits and Vegetables

Correction

In rule document 03-1211 beginning on page 2681 in the issue of Tuesday, January 21, 2003, make the following correction:

§319.56-2x [Corrected]

On page 2684, in the table, in § 319.56-2x, under the heading “Plant part(s)”, in the first line “of” should read, “or”.

[FR Doc. C3-1211 Filed 2-6-03; 8:45 am]

BILLING CODE 1505-01-D

SECURITIES AND EXCHANGE COMMISSION

[Release No. 34-47025; File No. SR-NYSE-2002-59]

Self Regulatory Organizations; Notice of Filing of Proposed Rule Change by the New York Stock Exchange, Inc. Relating to Pilot Programs for Mediation and Administrative Conferences

December 18, 2002.

Correction

In notice document 02-32738 beginning on page 79214 in the issue of Friday, December 27, 2002, make the following correction:

On page 79214, in the third column, include the date as set forth above.

[FR Doc. C2-32738 Filed 2-6-03; 8:45 am]

BILLING CODE 1505-01-D